DEPARTMENT OF HEALTH AND HUMAN SERVICES

National Institutes of Health

National Institute of Mental Health; Amended Notice of Meeting

Notice is hereby given of a change in the meeting of the National Institute of Mental Health Special Emphasis Panel, March 30, 2020, 8:30 a.m. to March 30, 2020, 5:00 p.m., National Institutes of Health, Neuroscience Center, 6001 Executive Blvd., Rockville, MD, 20852 which was published in the Federal Register on February 18, 2020, 85 FR 8882.

This notice is to amend the NIMH Clinical Trials Effectiveness Studies (R34/R01/R01 Collaborative) meeting from an in-person meeting to a teleconference. All other meeting information remains the same. The meeting is closed to the public.

Dated: March 11, 2020.
Melanie J. Pantoja,
Program Analyst, Office of Federal Advisory Committee Policy.

[FR Doc. 2020-05358 Filed 3-16-20; 8:45 am]

BILLING CODE 4140-01-P